DEPARTMENT OF HOUSING AND URBAN DEVELOPMENT

24 CFR Parts 5, 91, 92, 93, 200, 247, 574, 576, 578, 880, 882, 883, 884, 886, 891, 905, 960, 966, 982, and 983

[Docket No. FR 5720-C-04]

Violence Against Women Reauthorization Act of 2013: Implementation in HUD Housing Programs; Correction

AGENCY: Office of General Counsel, HUD.

ACTION: Final rule; correction.

SUMMARY: On November 16, 2016, HUD published a final rule implementing in HUD's regulations the requirements of the 2013 reauthorization of the Violence Against Women Act (VAWA). After publication, HUD discovered an incorrect compliance date in the preamble and an incorrect paragraph designation in the regulatory text. The compliance date, with respect to completing an emergency transfer plan and providing emergency transfers, and associated recordkeeping and reporting requirements, was incorrectly listed as May 15, 2017, in the preamble. The regulatory text provided the correct date of June 14, 2017. This document makes the necessary correction to the preamble to reflect the compliance date in the regulatory text of June 14, 2017 and the paragraph designations in the regulatory text.

DATES: This correction is effective December 16, 2016.

FOR FURTHER INFORMATION CONTACT: With respect to this supplementary document, contact Ariel Pereira, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

SUPPLEMENTARY INFORMATION: In the final rule FR Doc. 5720-F-03, beginning on page 80724 in the Federal Register of November 16, 2016, the following corrections are made:

1. In the DATES section, on page 80724 in the second column, revise “May 15, 2017” to read “June 14, 2017”.

2. In the II.B SUMMARY OF PUBLIC COMMENTS AND HUD RESPONSES section, on page 80790 in the second column, revise “May 15, 2017” to read “June 14, 2017”.

§ 578.99 [Corrected]

3. On page 80810, in the second column, in the 24 CFR 578.99 regulatory text, the second set of paragraphs (j)(2)(i) through (iii) is redesignated as (j)(2)(iii)(A) through (C).

Dated: December 1, 2016.
Ariel Pereira,
Associate General Counsel for Legislation and Regulations.

[FR Doc. 2016-29213 Filed 12-5-16; 8:45 am]

BILLING CODE 4210-67-P